DEPARTMENT OF ENERGY

Western Area Power Administration

Pacific Northwest-Pacific Southwest Intertie Project—Rate Order No. WAPA-181

AGENCY: Western Area Power Administration, DOE.

ACTION: Notice of proposed extension of transmission service rates.

SUMMARY: The Western Area Power Administration (WAPA) proposes to extend the existing Pacific Northwest-Pacific Southwest Intertie Project transmission service rates through September 30, 2020. The existing Rate Schedules INT-FT5 and INT-NFT4 expire April 30, 2018.

DATES: A consultation and comment period starts with the publication of this notice and will end on April 9, 2018. WAPA will accept written comments any time during the consultation and comment period.

ADDRESSES: Send written comments to: Mr. Ronald E. Moulton, Regional Manager, Desert Southwest Customer Service Region, Western Area Power Administration, P.O. Box 6457, Phoenix, AZ 85005-6457, or email moulton@wapa.gov. WAPA will post information about the proposed transmission service rate extension and written comments received on its website at https://www.wapa.gov/regions/DSW/Rates/Pages/intertie-rates.aspx.

FOR FURTHER INFORMATION CONTACT: Ms. Tina Ramsey, Rates Manager, Desert Southwest Customer Service Region, Western Area Power Administration, P.O. Box 6457, Phoenix, AZ 85005-6457, (602) 605-2565, or email ramsey@wapa.gov.

SUPPLEMENTARY INFORMATION: Rate Schedules INT-FT5 and INT-NFT4 for Rate Order No. WAPA-157 were approved by the Federal Energy Regulatory Commission (FERC) for a 5-year period through April 30, 2018.¹ The existing rates provide sufficient revenue to pay all annual costs, including interest expense, and repay required investment within the allowable period consistent with the cost recovery criteria set forth in DOE Order RA 6120.2. In accordance with 10 CFR part 903.23(a), WAPA is proposing to extend the existing rates under Rate Schedules INT-FT5 and INT-NFT4 for the period from May 1, 2018 through September 30, 2020. Extending these rate schedules through September 30, 2020 will provide WAPA and its customers time to evaluate the potential benefits of combining transmission service rates on Federal transmission projects in the Desert Southwest Region.

¹ FERC confirmed and approved Rate Order No. WAPA-157 on August 22, 2013, in Docket No. EF13-4-000. See Order Confirming and Approving Rate Schedules on a Final Basis, 144 FERC ¶ 61,143.

By Delegation Order No. 00-037.00B, effective November 19, 2016, the Secretary of Energy delegated: (1) The authority to develop power and transmission rates to WAPA's Administrator; (2) the authority to confirm, approve, and place such rates into effect on an interim basis to the Deputy Secretary of Energy; and (3) the authority to confirm, approve, and place into effect on a final basis, to remand or to disapprove such rates to FERC.

In accordance with 10 CFR 903.23(a)(2), WAPA will not hold public information or public comment forums but is providing a 30-day consultation and comment period to receive comments on the proposed rate extension. Comments must be received by the end of the consultation and comment period to be considered by WAPA in its decision process. WAPA will post comments received to its website, https://www.wapa.gov/regions/DSW/Rates/Pages/intertie-rates.aspx. After considering public comments, WAPA will take further action on the proposed rate extension consistent with 10 CFR 903.23(a).

Dated: January 25, 2018.
Mark A. Gabriel,
Administrator.

[FR Doc. 2018-04797 Filed 3-8-18; 8:45 am]

BILLING CODE 6450-01-P